DEPARTMENT OF AGRICULTURE

Forest Service

Willamette National Forest, Detroit Ranger District, Oregon; Hwy 46 Project

AGENCY: Forest Service, USDA.

ACTION: Notice of intent to prepare an environmental impact statement.

SUMMARY: The Hwy 46 Project is proposed to improve stand growth, diversity and structure; move stand structure from an overabundance of mid seral stands to increase both early and late seral stand structure within the watershed; reduce hazardous fuels; restore sugar pine and encourage sugar pine regeneration; treat powerline visuals; restore riparian and meadow habitats; and restore hydrologic processes in the Short Lake area. This project would also provide a sustainable yield of timber for commercial products to local and regional economies. Treatments would occur on about 4054 acres. Commercial harvest activities on approximately 3576 acres include commercial thinning, sugar pine restoration, and early seral creation through gaps and variable retention regeneration harvest. Fuels reduction activities, understory habitat enhancement treatments and meadow restoration are proposed on approximately 480 acres. Road work would be part of the actions associated with the proposed activities and would include road maintenance/reconstruction on 119 miles, approximately 9.3 miles of temporary roads, and the rerouting of FS Rd 46-059.

DATES: Comments concerning the scope of the analysis must be received by April 25, 2016. The draft environmental impact statement is expected June 2017 and the final environmental impact statement is expected December 2017.

ADDRESSES: Scoping comments can be submitted electronically through https://cara.ecosystem-management.org/Public/Commentinput?project=47109. Send written comments to HC 73, Box 320, Mill City, OR 97360, or via facsimile to 503-854-4239.

FOR FURTHER INFORMATION CONTACT: Lyn Medley (Project Team Leader) at the Detroit Ranger District, (503) 854-4228, lmedley@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

The Hwy 46 project area is approximately 31,295 acres, located in the Breitenbush Watershed. Forest Road 46 (Hwy 46), the Breitenbush River and a powerline bisect the project area. Within the project area trees are competing for sunlight, water and nutrients causing reduced tree growth and vigor. There is an oversupply of mid-seral stands, moving the seral distribution away from historic levels and limiting stand structure and species diversity across the landscape. This is the northern most extent of Sugar pine, past management and the exclusion of fire on the landscape has threatened this population of Sugar pine. The Breitenbush community is located within the project area, and the watershed is popular with recreationists.

The purpose of this project is to improve stand growth, diversity and structure and move stand structure from an overabundance of mid seral stands to increase early and late seral stand structure in the watershed, and to diversify wildlife habitat in the watershed; strategically reduce hazardous fuels; restore sugar pine stands to encourage sugar pine regeneration; treat powerline visuals; restore riparian habitats, meadows, and hydrologic processes in the project area; and provide forest products to the local economy.

Proposed Action

The Hwy 46 project proposes the following activities:

1. Commercially harvest about 3576 acres of second growth forests (managed and fire regenerated stands). This includes: 3328 acres of commercial thinning, approximately 132 acres of gaps (0.5-3 acres in size), approximately 65 acres of dominate tree release gaps (0.5 acres or less), and 51 acres of variable retention regeneration harvest. Included in these acres are approximately 430 acres of sugar pine restoration and 117 acres of visual treatments along the powerline. The 51 acres of variable retention regeneration harvest will be replanted with an appropriate mix of seedlings following harvest. Sugar pine seedlings will be planted in the sugar pine restoration units. The gaps will be replanted as needed with appropriate conifer seedlings.

2. Construction of approximately 5.1 miles of temporary spur roads, and reconstruction of approximately 4.2 miles of spur roads to access timber harvest units. The spur roads would be decommissioned by ripping, water-barring, and re-establishing drainage, and then seeded after harvest activities to minimize soil erosion and maintain water quality.

3. Road maintenance and reconstruction activities on about 119 miles of existing forest system roads within the planning area. Maintenance and reconstruction needs vary by road, but include brushing, reconditioning of roadways and ditches, replacing culverts, and cut slope repair. Road work will help provide for user and public safety and meet Forest Plan objectives.

4. Reroute FS Rd 46-059 road to restore hydrologic processes in the Short Lake area. The existing road would be decommissioned.

5. Hazardous fuel reduction treatments to reduce both existing fuel loadings and logging slash as a result of harvest will be planned to bring stands to levels within Forest Plan standards and guidelines. Proposed treatments include broadcast burning, machine piling, burning of landings, hand piling and chipping. This includes fuel reduction treatments on approximately 223 acres to reduce wildfire risks to the Breitenbush Community and roadside areas.

6. Understory habitat enhancements to increase species and structural diversity on approximately 222 acres. These treatments include meadow restoration and enhancement; noncommercial thinning of trees and shrubs less than 7 inches diameter at breast height (DBH), pruning and planting.

7. Recreation related activities include visual treatment of the powerline corridor, enhancement of Short Lake area and around Fox Creek Campground.

8. Thinning and fuels treatments will occur on approximately 802 acres of Riparian Reserves outside of riparian buffers to accelerate and/or improve Aquatic Conservation Strategy Objectives (ACSOs). Additional Riparian Reserve treatments could occur on up to 50 acres within buffers, including diversity thinning in plantations, wood placement in creeks and cutting and leaving conifers in areas of hardwoods to encourage hardwood growth. All treatments will be designed to accelerate and/or improve ACSOs.

Responsible Official

Detroit District Ranger.

Nature of Decision To Be Made

Given the purpose and need, the scope of the decision to be made by the responsible official will be as follows:

• Do the proposed actions comply with all applicable laws governing Forest Service actions?

• Do the proposed actions comply with the applicable standards and guidelines found in the Willamette Land and Resource Management Plan (LRMP)?

• Does the Environmental Impact Statement have sufficient site-specific environmental analysis to make an informed decision?

• Do the proposed actions meet the purpose and need for action?

With these assurances the responsible official must decide:

• Whether or not to select the proposed action or one of any other potential alternatives that may be developed, and what, if any, additional actions should be required.

Scoping Process

This notice of intent initiates the scoping process, which guides the development of the environmental impact statement.

It is important that reviewers provide their comments at such times and in such manner that they are useful to the agency's preparation of the environmental impact statement. Therefore, comments should be provided prior to the close of the scoping comment period and should clearly articulate the reviewer's concerns and contentions.

We are interested in your comments on the following questions:

• Are there alternative ways to meet the purpose of the project other than the proposed action we offer, which you would like the Forest Service to consider and analyze?

• Is there any information about the project area, which you believe is important in the context of the proposed activities that you would like the Forest Service to consider?

• What specifically are the potential effects of this proposal that you are particularly concerned about? For example, rather than simply stating that you would like a change in a proposed activity or that you would not like an activity to take place, it is most helpful to understand why you desire this. What are your underlying concerns with an activity or action; what are the effects from the activity that concern you?

Comments received in response to this solicitation, including names and addresses of those who comment, will be part of the public record for this proposed action. Comments submitted anonymously will be accepted and considered; however, anonymous comments will not provide the Agency with the ability to provide the respondent with subsequent environmental documents.

Dated: February 29, 2016.
Grady McMahan,
District Ranger.

[FR Doc. 2016-05257 Filed 3-8-16; 8:45 am]

BILLING CODE 3410-11-P